DEPARTMENT OF HEALTH AND HUMAN SERVICES

National Institutes of Health

National Institute of Nursing Research; Amended Notice of Meeting

Notice is hereby given of a change in the meeting of the National Institute of Nursing Research Special Emphasis Panel, March 18, 2015, 3:00 p.m. to March 18, 2015, 4:00 p.m., National Institutes of Health, One Democracy Plaza, 6701 Democracy Boulevard, Bethesda, MD 20892, which was published in the Federal Register on February 18, 2015, 80 FR 8676.

The meeting notice is amended to change the date of the meeting from March 18, 2015, 2:00 p.m. to March 12, 2015, 3:00 p.m. The meeting is closed to the public.

Dated: February 20, 2015.
Michelle Trout,
Program Analyst, Office of Federal Advisory Committee Policy.

[FR Doc. 2015-03935 Filed 2-25-15; 8:45 am]

BILLING CODE 4140-01-P